DEPARTMENT OF DEFENSE

Department of the Army; Corps of Engineers

Notice of Intent To Grant Exclusive License of U.S. Patent Application No. 12/432,842 Filed April 30, 2009 Entitled: “A Soil Stabilization Soil Comprising Same, and a Method of Stabilizing Soil”

AGENCY: Department of the Army, U.S. Army Corps of Engineers, DOD.

ACTION: Notice.

SUMMARY: In accordance with 37 CFR 404.7(a)(1)(i), announcement is made of a prospective exclusive license of the following U.S. Patent Application No. 12/432,842 Filed April 30, 2009.

DATES: Written objections must be filed not later than 15 days following publication of this announcement.

ADDRESSES: United States Army Engineer Research and Development Center, Waterways Experiment Station, Attn: CEERD-ZA-T (Mr. Phillip Stewart), 3909 Halls Ferry Road, Vicksburg, MS 39180-6199.

FOR FURTHER INFORMATION CONTACT: Mr. Phillip Stewart (601) 634-4113, FAX (601) 634-4180, e-mail: Phillip.stewart@usace.army.mil.

SUPPLEMENTARY INFORMATION: This invention has non-government co-inventors and this announcement pertains only to the licensing of the Federal Government's rights, not to the rights of the non-government inventors. The technology claimed in this patent application improves a soil's resistance to deformation, prevents complete rewetting of the soil which improves freeze-thaw resistance and durability, and reduces fugitive dust. This method of stabilization provides for immediate use with no curing time necessary and is particularly effective in extreme cold climates with sandy, gravelly soils where emulsions and hydraulic cements will not effectively cure. If damaged due to extreme traffic loads or numbers, the system may be reworked and re-compacted with no loss in effectiveness. It has been demonstrated to provide cost-savings in remote locations where importation of crushed aggregate to construct pavement is costly and impractical.

Brenda S. Bowen,
Army Federal Register Liaison Officer.

[FR Doc. 2010-6886 Filed 3-26-10; 8:45 am]

BILLING CODE 3720-58-P